DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the name of persons whose property and interests in property have been unblocked pursuant to Executive Order 13288 of March 10, 2003, “Blocking Property of Persons Undermining Democratic Processes or Institutions in Zimbabwe”, as amended by Executive Order 13391 of November 22, 2005, “Blocking Property of Additional Persons Undermining Democratic Processes or Institutions in Zimbabwe.” Additionally, OFAC is publishing an update to the identifying information of persons currently included on the Specially Designated Nationals and Blocked Persons List (SDN List).

DATES: See Supplementary Information section for effective date(s).

FOR FURTHER INFORMATION CONTACT:

OFAC: Bradley T. Smith, Director, tel.: 202-622-2490; Associate Director for Global Targeting, tel: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Action

On November 30, 2023, OFAC removed from the SDN List the person listed below, whose property and interests in property were blocked pursuant to E.O. 13288, as amended by E.O. 13391. On November 30, 2022, OFAC determined that circumstances no longer warrant the inclusion of the following person on the SDN List under this authority. This person is no longer subject to the blocking provisions of Section 1(a) of E.O. 13288, as amended by E.O. 13391.

Individual

1. BONYONGWE, Happyton Mabhuya; DOB 6 Nov 1960; POB Chikomba District, Zimbabwe; nationality Zimbabwe; Director General, Central Intelligence Organization (individual) [ZIMBABWE]

Dated: November 30, 2023.
Gregory T. Gatjanis,
Associate Director, Office of Foreign Assets Control, U.S. Department of the Treasury.

[FR Doc. 2023-26781 Filed 12-5-23; 8:45 am]

BILLING CODE 4810-AL-P